DEPARTMENT OF TRANSPORTATION

Surface Transportation Board

[STB Docket No. AB-435 (Sub-No. 2X)]

Willamette Valley Railway Company—Discontinuance of Service Exemption—in Linn County, OR

Willamette Valley Railway Company (WVR) has filed a verified notice of exemption under 49 CFR 1152 Subpart F—Exempt Abandonments and Discontinuances of Service to discontinue service over an approximately 48.77-mile line of railroad known as the Mill City Branch owned by Union Pacific Railroad Company (UP) extending from: (1) Milepost 689.64 at or near Page, OR, to a mileage equation at milepost 697.37, equivalent to milepost 684.67, thence to milepost 690.97 at or near Lebanon, OR; and (2) milepost 690.97 at or near Lebanon to the end of the track at milepost 725.71 at or near Mill City, OR, in Linn County, OR.¹ The line traverses United States Postal Service Zip Codes 97321, 97322, 97355, and 97360.

¹ In February 1993, WVR leased the Mill City Branch and other rail lines in Oregon from UP's predecessor, Southern Pacific Transportation Company. WVR operated the Mill City Branch until October 2000, when the lease was amended to include Albany & Eastern Railroad Company (AERC) as a joint lessee with WVR. Since October 2000, the Mill City Branch has been operated exclusively by AERC; WVR operates the other rail lines in Oregon on an exclusive basis.

WVR has certified that: (1) No traffic has moved over the line for at least 2 years; (2) there is no overhead traffic on the line; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the discontinuance of service shall be protected under Oregon Short Line R. Co.—Abandonment—Goshen, 360 I.C.C.91 (1979). To address whether this condition adequately protects affected employees, a petition for partial revocation under 49 U.S.C. 10502(d) must be filed.

Provided no formal expression of intent to file an offer of financial assistance (OFA) has been received, this exemption will be effective on December 18, 2007, unless stayed pending reconsideration. Petitions to stay that do not involve environmental issues and formal expressions of intent to file an OFA for continued rail service under 49 CFR 1152.27(c)(2),² must be filed by November 26, 2007.³ Petitions to reopen must be filed by December 6, 2007, with the Surface Transportation Board, 395 E Street, SW., Washington, DC 20423-0001.

² Each offer of financial assistance must be accompanied by the filing fee, which currently is set at $1,300. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to WVR's representative: Thomas F. McFarland, 208 South LaSalle Street, Suite 1890, Chicago, IL 60604-1112.

If the verified notice contains false or misleading information, the exemption is void ab initio.

Board decisions and notices are available on our Web site at http://www.stb.dot.gov.

Decided: November 13, 2007.
By the Board, David M. Konschnik, Director, Office of Proceedings.
Vernon A. Williams,
Secretary.

[FR Doc. E7-22437 Filed 11-15-07; 8:45 am]

BILLING CODE 4915-01-P